DEPARTMENT OF HOMELAND SECURITY

Federal Emergency Management Agency

44 CFR Part 12

[Docket ID: FEMA-2014-0011]

RIN 1660-AA82

Removal of Federal Advisory Committee Act Regulations

AGENCY: Federal Emergency Management Agency, DHS.

ACTION: Final rule; correction.

SUMMARY: This document corrects the RIN that published in the Federal Register on March 13, 2014. This final rule removes the regulations that implement the Federal Advisory Committee Act (FACA) for the Federal Emergency Management Agency (FEMA). FEMA's implementation of FACA is now governed by the rules promulgated by the General Services Administration (GSA) and by the policies issued by the Department of Homeland Security (DHS).

DATES: Effective Date: April 14, 2014.

FOR FURTHER INFORMATION CONTACT: Program Information: Demaris Belanger, Group Federal Officer (GFO), Office of the Chief Administrative Officer, Mission Support Bureau, Federal Emergency Management Agency, Room 706-A, 500 C Street SW., Washington DC, 20472-3000, phone: 202-212-2182, email: demaris.belanger@dhs.gov.

Legal Information: Michael Delman, Attorney Advisor, Office of Chief Counsel, Federal Emergency Management Agency, 8NE, 500 C Street SW., Washington, DC, 20472-3100, phone: 202-646-2447, email: michael.delman@fema.dhs.gov.

SUPPLEMENTARY INFORMATION: In the final rule, (79 FR 14180), beginning on page 14180 in the Federal Register issue of March 13, 2014, make the following correction: on page 14180 in the 2nd column in the RIN section, replace the RIN to read “RIN 1660-AA82.”

Dated: March 19, 2014.
W. Craig Fugate,
Administrator, Federal Emergency Management Agency.

[FR Doc. 2014-06529 Filed 3-24-14; 8:45 am]

BILLING CODE 9111-19-P